DEPARTMENT OF COMMERCE

National Oceanic and Atmospheric Administration

[I.D. 110404E]

Endangered Species; File No. 1260

AGENCY: National Marine Fisheries Service (NMFS), National Oceanic and Atmospheric Administration (NOAA), Commerce.

ACTION: Issuance of permit modification.

SUMMARY: Notice is hereby given that the NMFS Southeast Fisheries Science Center (SEFSC) has been issued a modification to scientific research Permit No. 1260.

ADDRESSES: The modification and related documents are available for review upon written request or by appointment in the following office(s):

Permits, Conservation and Education Division, Office of Protected Resources, NMFS, 1315 East-West Highway, Room 13705, Silver Spring, MD 20910; phone (301)713-2289; fax (301)713-0376; and

Southeast Region, NMFS, 9721 Executive Center Drive North, St. Petersburg, FL 33702-2432; phone (727)570-5301; fax (727)570-5320.

FOR FURTHER INFORMATION CONTACT: Patrick Opay or Ruth Johnson, (301)713-2289.

SUPPLEMENTARY INFORMATION: Notices were published in the Federal Register on July 15, 2004 (69 FR 42426) and July 19, 2004 (69 FR 42970) that modifications of Permit No. 1260, issued June 29, 2001 (66 FR 34621), had been requested by the above-named organization. The requested modification has been granted under the authority of the Endangered Species Act of 1973, as amended (ESA; 16 U.S.C. 1531 et seq.) and the regulations governing the taking, importing, and exporting of endangered and threatened species (50 CFR parts 222-226).

The modification to Permit No. 1260 authorizes the SEFSC to attach conventional or pop-up archival tag (PAT) satellite transmitters to the pygal region of up to 15 leatherback sea turtles (Dermochelys coriacea) that may be boated during the Pelagic Longline Fishery Observers project. Additionally, the SEFSC is authorized to handle, flipper and passive integrated transponder (PIT) tag, tissue sample and blood sample all turtles on all projects under Permit No. 1260 and now has the option of deploying either PAT or conventional satellite tags via a tether attachment to the 20 loggerhead sea turtles (Caretta caretta) for which satellite tagging was already authorized under the existing Pelagic Longline Fishery Observers project.

The modification also authorizes the annual hoop netting or dip netting, measuring, weighing, flipper and PIT tagging, tissue biopsying, blood sampling and release of an additional 100 leatherback, 120 loggerhead, 100 green (Chelonia mydas), 50 hawksbill (Eretmochelys imbricata), 50 Kemp's ridley (Lepidochelys kempii) and 20 olive ridley (Lepidochelys olivacea) sea turtles. A subset of 20 of the leatherbacks, 20 of the loggerheads, 20 of the greens, 20 of the hawksbills, 20 of the Kemp's ridleys and 5 of the olive ridleys captured annually will have satellite transmitters attached to them. None of the activities authorized under this modification are expected to result in mortality. The research will be conducted in waters of the Atlantic Ocean (including the Caribbean) and Gulf of Mexico during the remainder of the permit which expires June 30, 2006. The purpose of the research is to gather the necessary information to implement NMFS management activities as required by the ESA and implementing regulations.

Issuance of this modification, as required by the ESA was based on a finding that such permit (1) was applied for in good faith, (2) will not operate to the disadvantage of the endangered and threatened species which are the subject of this permit, and (3) is consistent with the purposes and policies set forth in section 2 of the ESA.

Dated: November 5, 2004.
Stephen L. Leathery,
Chief, Permits, Conservation and Education Division, Office of Protected Resources, National Marine Fisheries Service.

[FR Doc. 04-25210 Filed 11-10-04; 8:45 am]

BILLING CODE 3510-22-S